DEPARTMENT OF STATE

[Public Notice 11650]

60-Day Notice of Proposed Information Collection: Statement of Registration

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to May 2, 2022.

ADDRESSES: You may submit comments by any of the following methods:

• Web: Persons with access to the internet may comment on this notice by going to www.Regulations.gov. You can search for the document by entering “Docket Number: DOS-2022-0003” in the Search field. Then click the “Comment Now” button and complete the comment form.

• Email: DDTCPublicComments@state.gov.

• Regular Mail: Send written comments to: Directorate of Defense Trade Controls, Attn: Andrea Battista, 2401 E St. NW, Suite H-1205, Washington, DC 20522-0112

You must include the subject (PRA 60 Day Comment), information collection title (Statement of Registration), and OMB control number (1405-0002) in any correspondence.

FOR FURTHER INFORMATION CONTACT: Direct requests for additional information regarding this collection to Andrea Battista, who may be reached at BattistaAL@state.gov or 202-663-3136.

SUPPLEMENTARY INFORMATION: • Title of Information Collection: Statement of Registration.

• OMB Control Number: 1405-0002.

• Type of Request: Revision of a Currently Approved Collection.

• Originating Office: Directorate of Defense Trade Controls (DDTC).

• Form Number: DS-2032.

• Respondents: Respondents are any person/s who engages in the United States in the business of manufacturing or exporting or temporarily importing defense articles.

• Estimated Number of Respondents: 14,800.

• Estimated Number of Responses: 17,688.

• Average Time per Response: 1 hour to complete the registration.

• Total Estimated Burden Time: 17,688 hours.

• Frequency: Annually, with amendments as necessary.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

Pursuant to Part 122 of the International Traffic in Arms Regulation (ITAR), and section 38 of the Arms Export Control Act, 22 U.S.C. 2778, any person who engages in the United States in the business of manufacturing or exporting or temporarily importing defense articles or furnishing defense services is required to register with the Department of State, Directorate of Defense Trade Controls (DDTC). Pursuant to Part 129 of the ITAR, any U.S. person wherever located, and any foreign person located in the United States or otherwise subject to the jurisdiction of the United States, who engages in the business of brokering activities, is required to register with DDTC. DDTC uses the information provided by registrants to meet the mandates described in Part 122 and Part 129 of the ITAR. As appropriate, such information may be shared with other U.S. Government entities. This information is currently used in the review and action on registration requests and to ensure compliance with defense trade laws and regulations.

Methodology

Statement of Registration submissions are made via a completed DS-2032 which may be accessed from DDTC's website and submitted electronically.

Michael F. Miller,
Deputy Assistant Secretary, Directorate of Defense Trade Controls, U.S. Department of State.

[FR Doc. 2022-04318 Filed 3-1-22; 8:45 am]

BILLING CODE 4710-25-P